DEPARTMENT OF THE INTERIOR

National Park Service

National Register of Historic Places; Notification of Pending Nominations

Nominations for the following properties being considered for listing in the National Register were received by the National Park Service before March 16, 2002. Pursuant to section 60.13 of 36 CFR part 60 written comments concerning the significance of these properties under the National Register criteria for evaluation may be forwarded by United States Postal Service, to the National Register of Historic Places, National Park Service, 1849 C St. NW., NC400, Washington, DC 20240; by all other carriers, National Register of Historic Places, National Park Service, 800 N. Capitol St. NW., Suite 400, Washington DC 20002; or by fax, 202-343-1836. Written or faxed comments should be submitted by April 16, 2002.

Carol D. Shull,
Keeper of the National Register Of Historic Places.

CALIFORNIA

Orange County

Fullerton Odd Fellows Temple, 112 E. Commonwealth Ave., Fullerton, 02000383

Santa Clara County

Free, Arthur Monroe, House, 66 S. 14th St., San Jose, 02000384

COLORADO

Jefferson County

Deaton Sculpted House, 24501 Ski Hill Dr., Golden, 02000385

HAWAII

Hawaii County

Waiakea Mission Station—Hilo Station, 211 Haili St., Hilo, 02000387

Honolulu County

Boettcher Estate, 248 North Kalaheo, Kailua, 02000388

Hawaii Shingon Mission, 915 Sheridan St., Honolulu, 02000386

KANSAS

Butler County

Butler County Courthouse (County Courthouses of Kansas MPS), 205 W. Central Ave., El Dorado, 02000390

Cheyenne County

Cheyenne County Courthouse (County Courthouses of Kansas MPS), 212 E. Washington St., St. Francis, 02000391

Comanche County

Comanche County Courthouse (County Courthouses of Kansas MPS), 201 S. New York Ave., Coldwater, 02000395

Grant County

Grant County Courthouse District (County Courthouses of Kansas MPS), 108 S. Glenn St., Ulysses, 02000396

Jewell County

Jewell County Courthouse (County Courthouses of Kansas MPS), 307 N. Commercial St., Mankato, 02000397

Leavenworth County

Leavenworth County Courthouse (County Courthouses of Kansas MPS), 300 Walnut St., Leavenworth, 02000394

Leavenworth Downtown Historic District, Roughly Cherokee St., Delaware St., S. Fifth St., and Shawnee St., Leavenworth, 02000389

Leavenworth Historic Industrial District, Roughly Third St. Choctaw St., Second St. and Cherokee St., Leavenworth, 02000406

Osborne County

Osborne County Courthouse (County Courthouses of Kansas MPS), 423 W. Main St., Osborne, 02000392

Republic County

Republic County Courthouse (County Courthouses of Kansas MPS), Bounded by “M” St., Eighteenth St., “N” St., and Nineteenth St., Belleville, 02000393

Rice County

Rice County Courthouse (County Courthouses of Kansas MPS), 101 W. Commercial St., Lyons, 02000401

Rooks County

Rooks County Courthouse (County Courthouses of Kansas MPS), 115 N. Walnut St., Stockton, 02000400

Wabaunsee County

Wabaunsee County Courthouse (County Courthouses of Kansas MPS), 215 Kansas Ave., Alma, 02000399

Wyandotte County

Wyandotte County Courthouse (County Courthouses of Kansas MPS), 710 N. 7th St., Kansas City, 02000398

MISSISSIPPI

Tishomingo County

Brinkley, R.C., House (Iuka MPS), 605 E. Eastport St., Iuka, 02000407

MISSOURI

Macon County

Gardner and Tinsley Filling Station, Old US 36, near jct. with MO 149, New Cambria, 02000408

NEBRASKA

Lancaster County

Calhoun, James D., House, 1130 Plum St., Lincoln, 02000411

Federal Trust Building, 134 S. 13th St., Lincoln, 02000409

Yost, John H. and Christina, House, 1900 S. 25th St., Lincoln, 02000410

RHODE ISLAND

Providence County

Norwood Avenue Historic District, Roughly along Norwood Ave. bet. Roger Williams to Broad St., Cranston, 02000412

TEXAS

Hidalgo County

Cine El Rey (County Courthouses of Kansas MPS), 311 S. 17th St., McAllen, 02000402

Kerr County

Woolls Building, 318 San Antonio, Center Point, 02000403

Lampasas County

Lampasas Colored School, 514 College St., Lampasas, 02000404

Tarrant County

Near Southeast Historic District, Roughly bounded by New York Ave., E. Terrell Ave., former I&GN Railway, Verbena St., and N side of E. Terrell Ave, Fort Worth, 02000405

VERMONT

Rutland County

Gifford Woods State Park (Historic Park Landscapes in National and State Parks MPS) VT 100, Killington, 02000414

Washington County

Jones Brothers Granite Shed, 720 N. Main St., VT 302, Barre, 02000413

WISCONSIN

Fond Du Lac County

Linden Street Historic District, 253-295 and 274-304 Linden St., Fond du Lac, 02000418

Wallace—Jagdfield Octagon House, 171 Forest Ave., Fond du Lac, 02000416

Marinette County

Kena Road School, N2155 US 141, Pound, 02000415

Milwaukee County

Lindsay—Brostrom Building, 133 W. Oregon St., Milwaukee, 02000417

A request for move has been made for the following resources:

MISSOURI

Callaway County

Pitcher Store, 8513 Pitcher Rd., Fulton vicinity, 01000235

Richland Christian Church, 5301 Callaway Cty. Rd. 220, Kingdom City vicinity, 01000122

Macon County

Gardner and Tinsley Filling Station, US 36, near jct. with MO 149, New Cambria vicinity, 02000408

[FR Doc. 02-7817 Filed 3-29-02; 8:45 am]

BILLING CODE 4310-70-P